DEPARTMENT OF ENERGY

Federal Energy Regulatory Commission

[Docket Nos. ER00-936-000 and ER00-936-003; ER00-937-000 and ER00-937-003]

Southern Energy Delta, L.L.C. and Southern Energy Potrero, L.L.C.; Notice of Filing

October 11, 2000.

Take notice that on September 28, 2000, Southern Energy Delta, L.L.C. (SE Delta) and Southern Energy Potrero, L.L.C. (SE Potrero) (collectively the Southern Parties) filed an Offer of Settlement which represents an integrated and complete resolution of issues in the above-captioned proceedings among and between the following parties (the Supporting Parties): the Southern Parties, the California Independent System Operator Corporation (CAISO), and Pacific Gas and Electric Company (PG&E).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 19, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-26555 Filed 10-16-00; 8:45 am]

BILLING CODE 6717-01-M